DEPARTMENT OF JUSTICE

Office of Justice Programs

Agency Information Collection Activities: Proposed Collection; Comments Requested

ACTION: 30-day notice of information collection under review: extension of a currently approved collection; survey of practitioners to assess the impact of transnational crime.

The Department of Justice (DOJ), Office of Justice Programs (OJP) has submitted the following information collection request to the Office of Management and Budget (OMB) for review and approval in accordance with the Paperwork Reduction Act of 1995. The proposed information collection is published to obtain comments from the public and affected agencies. This proposed information collection was previously published in the Federal Register volume 67, number 213, page 67210 on November 4, 2002, allowing for a 60 day comment period.

The purpose of this notice is to allow for an additional 30 days for public comment until May 30, 2003. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503.

Request written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a currently approved collection.

(2) Title of the Form/Collection: Survey of Practitioners to Assess the Impact of Transnational Crime.

(3) Agency form number, if any, and the applicable component of the department sponsoring the collection: OJP Form Number, none. National Institute of Justice, Office of Justice Programs, Department of Justice.

(4) Affected public who will be asked or require to respond, as well as a brief abstract: Affected public includes law enforcement administrators or other persons responsible for investigatory operations within sampled jurisdictions. The survey will gather information about the impact of terrorism and other transnational crimes on local jurisdictions across the country, including resource allocation, collaboration with other agencies, extent of activity, and awareness of activity. The data will be used to advise the National Institute of Justice, Federal law enforcement agencies, and State and local law enforcement agencies on how State and local jurisdictions are impacted by terrorism and transnational crime.

(5) An estimate of the total number of respondents and the amount of time estimated for an average respondent to respond: An estimated 250 respondents will complete the survey which will take 30 minutes to complete.

(6) An estimate of the total public burden (in hours) associated with this collection: An estimated 125 hours of public burden is associated with this collection.

If additional information is required contact: Mrs. Brenda E. Dyer, Deputy Clearance Officer, United States Department of Justice, Information Management and Security Staff, Justice Management Division, Suite 1600, Patrick Henry Building, 601 D Street, NW., Washington, DC 20530.

Dated: April 25, 2003.
Brenda E. Dyer,
Department Deputy Clearance Officer, United States Department of Justice.

[FR Doc. 03-10684 Filed 4-29-03; 8:45 am]

BILLING CODE 4410-18-M